DEPARTMENT OF TRANSPORTATION

Federal Highway Administration

Environmental Impact Statement: Fort Bend County, TX

AGENCY: Federal Highway Administration (FHWA), DOT.

ACTION: Notice of intent.

SUMMARY: The FHWA is issuing this notice to advise the public that an environmental impact statement will be prepared for a proposed transportation project in Fort Bend County, Texas.

FOR FURTHER INFORMATION CONTACT: Mr. John Mack, P.E., Federal Highway Administration, Texas Division, 300 East 8th Street, Room 826, Austin, Texas 78701, Telephone (512) 536-5960.

SUPPLEMENTARY INFORMATION: The FHWA, in cooperation with the Texas Department of Transportation (TxDOT) and Fort Bend County, will prepare an Environmental Impact Statement (EIS) on a proposal to upgrade the existing transportation network in Fort Bend County. The proposed project would be for the development of Segment B of State Highway 122 (Fort Bend Parkway) from State Highway 6 to_segment C of SH 99 (the Grand Parkway) in Fort Bend County, Texas. The proposed action would be a multilane, possibly tolled, facility, approximately 13 miles in length, built within a corridor with the above limits. The majority of this corridor crosses relatively undeveloped properties in Fort Bend County. Cities and towns in the region include Pearland, Arcola, Missouri City and Thompsons.

Fort Bend County proposes to build a facility to provide improved transportation characteristics in the region.

Alternatives to be studied include “no-action” (the no-build alternative), Transportation System Management (TSM)/Transportation Demand Management (TDM) alternative, mass transit alternative and roadway build alternatives.

Potential impacts caused by the construction and operation of the facility will vary for each reasonable alternative alignment considered. Generally, impacts would include the following: transportation impacts (construction detours, construction traffic and mobility improvement), air and noise impacts from construction equipment and operation of the facility, water quality impacts from construction area and roadway storm water runoff, impacts to waters of the United States, including wetlands from right-of-way encroachment, impacts to historic and archaeological resources, impacts to floodplains, impacts to residents and businesses caused by potential displacements and impacts to vegetation that may provide potential habitat to wildlife or other biological resources.

Letters describing the proposed action soliciting comments will be sent to appropriate Federal, State, local agencies, and to private organizations and citizens who have previously expressed or are known to have interest in this proposal. Two simultaneous public scoping meetings will be held on October 15th, 2002, one at Manford Williams Elementary School, 1.5 miles west of Crabb-River Rd. on FM 762 and the other at Sienna Crossing Elementary School, 0.5 miles east of Sienna Parkway on Steep Bank Trace. Both meetings will be at 7 P.M. Public comments on the proposed action and alternatives will be requested. This will be the first of a series of meetings to evaluate the study area, corridor alternatives and design alternative alignments. A public hearing will be held at a later time, with copies of the Draft Environmental Impact Statement (DEIS) available for public and agency review and comment prior to the public hearing.

To ensure that the full range of issues related to this proposed action are addressed and all significant issues identified, comments and suggestions are invited from all interested parties. Comments or questions concerning this proposed action and the Environmental Impact Statement should be directed to the FHWA at the address provided above.

(Catalog of Federal Domestic Assistance Program Number 20.205 Highway Planning and Construction. The regulations implementing Executive Order 12372 regarding governmental consultation on federal programs and activities apply to this program).
Issued on: September 4, 2002.
John R. Mack,
District Engineer, FHWA Texas Division.

[FR Doc. 02-23485 Filed 9-13-02; 8:45 am]

BILLING CODE 4910-22-M